COMMODITY FUTURES TRADING COMMISSION

Renewal of the Technology Advisory Committee

AGENCY: Commodity Futures Trading Commission.

ACTION: Notice of renewal.

SUMMARY: The Commodity Futures Trading Commission (CFTC or Commission) is publishing this notice to announce the renewal of the Technology Advisory Committee (TAC). The Commission has determined that the renewal of the TAC is necessary and in the public's interest, and the CFTC has consulted with the General Services Administration's Committee Management Secretariat regarding the TAC's renewal.

FOR FURTHER INFORMATION CONTACT: Anthony Biagioli, Trial Attorney and TAC Designated Federal Officer, at 816-960-7722 or Abiagioli@cftc.gov.

SUPPLEMENTARY INFORMATION: The CFTC's advisory committees were created to provide input and make recommendations to the Commission on a variety of regulatory and market issues that affect the integrity and competitiveness of U.S. financial services and markets. The committees facilitate communication between the Commission and U.S. derivatives markets, trading firms, market participants, and end users. The TAC is one of five CFTC advisory committees. The TAC's objectives and scope of activities shall be to provide advice and recommendations to the Commission. The TAC will assist the Commission with advice and recommendations on the impact and implications of technological innovation in the financial services and markets. The TAC will provide advice on the application and utilization of new technologies in financial services, derivatives, and commodity markets, as well as by market professionals and market users. The TAC may further provide advice to the Commission on the appropriate level of investment in technology at the Commission to meet its surveillance and enforcement responsibilities, and inform the Commission's consideration of technology-related issues to support the Commission's mission of ensuring the integrity of the markets and achievement of other public interest objectives.

The TAC will operate for two years from the date of renewal unless the Commission directs that the TAC terminate on an earlier date. A copy of the TAC renewal charter has been filed with the Commission; the Senate Committee on Agriculture, Nutrition and Forestry; the House Committee on Agriculture; the Library of Congress; and the General Services Administration's Committee Management Secretariat. A copy of the renewal charter will be posted on the CFTC's website at www.cftc.gov.

Dated: August 30, 2024.
Christopher Kirkpatrick,
Secretary of the Commission.

[FR Doc. 2024-19921 Filed 9-4-24; 8:45 am]

BILLING CODE 6351-01-P